DEPARTMENT OF HOUSING AND URBAN DEVELOPMENT

[Docket No. FR-5690-N-12]

60-Day Notice of Proposed Information Collection: Public Housing Energy Audits and Utility Allowances

AGENCY: Office of the Assistant Secretary for Public and Indian Housing, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 25, 2013.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-5564 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number). Persons with hearing or speech impairments may access this number via TTY by calling the Federal Relay Service at (800) 877-8339.

Copies of available documents submitted to OMB may be obtained from Ms. Mussington.

SUPPLEMENTARY INFORMATION: This notice informs the public that HUD is seeking approval from OMB for the information collection described in Section A.

A. Overview of Information Collection

Title of Information Collection: Public Housing Energy Audits and Utility Allowances.

OMB Approval Number: 2577-0062.

Type of Request: Reinstatement, with change, of previously approved collection.

Form Number: HUD 50078.

Description of the need for the information and proposed use: 24 CFR 965.301, Subpart C, Energy Audit and Energy Conservation Measures, requires PHAs to complete energy audits once every five years and undertake cost-effective energy conservation measures. 24 CFR 965, Subpart E, Resident Allowances for Utilities, requires PHAs to establish, review and revise utility allowances for PHA-furnished utilities and for resident-purchased utilities.

Respondents (i.e. affected public): Public Housing Agencies.

Section reference | Number of respondents | Number of responses per respondent | Total annual number of responses | Estimated average time for requirement (in hours) | Estimated annual burden (in hours)
965.302—Energy Audits | 680 | 1 | 680 | 3.5 | 2,380
965.308—Energy Performance Contracts | 22 | 1 | 22 | 100 | 2,200
965.402—Benefit/Cost Analysis | 5 | 1 | 1 | 3 | 15
965.502—Establish utility allowances | 5 | 1 | 5 | 20 | 100
965.507—Review utility allowances | ¹ 3,100 | 1 | 3,100 | 2 | 6,200
965.507—Revise utility allowances | ² 1,240 | 1 | 1,240 | 20 | 24,800
965.506—Establishment of Surcharges for Excess Consumption | 200 | 1 | 200 | 1 | 200
Optional Benchmarking (50078 available for this purpose) | 350 | 1 | 350 | 1.5 | 525
965-508-Individual Relief Criteria | 1,000 | 1 | 1,000 | 1 | 1,000
Total Paperwork Burden for OMB Control #2577-0062 |  |  |  |  | 37,420
¹ This is the total number of PHAs covered under this statute.
² This number reflects 40% of all Public Housing Agencies; this is the estimated number of housing agencies that revise their utility allowances, annually.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: September 19, 2013.
Merrie Nichols-Dixon,
Deputy Director, Office of Policy, Program and Legislative Initiatives.

[FR Doc. 2013-23344 Filed 9-24-13; 8:45 am]

BILLING CODE 4210-67-P